DEPARTMENT OF VETERANS AFFAIRS

[OMB Control No. 2900-0017]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 6, 2006.

FOR FURTHER INFORMATION CONTACT: Denise McLamb, Initiative Coordination Service (005G1), Department of Veterans Affairs, 810 Vermont Avenue, NW., Washington, DC 20420, (202) 565-8374, fax (202) 565-7870 or e-mail denise.mclamb@mail.va.gov. Please refer to “OMB Control No. 2900-0017.” Send comments and recommendations concerning any aspect of the information collection to VA's OMB Desk Officer, OMB Human Resources and Housing Branch, New Executive Office Building, Room 10235, Washington, DC 20503 (202) 395-7316. Please refer to “OMB Control No. 2900-0017” in any correspondence.

SUPPLEMENTARY INFORMATION:

Title:

a. Annual-Final Report and Account, VA Form 21-4706.

b. Federal Fiduciary's Account, VA Form 21-4706b.

c. Court Appointed Fiduciary's Account, VA Form 21-4706c.

d. Account Book, VA Form 21-4718.

e. Certificate of Balance on Deposit and Authorization to Disclose Financial Records (Pursuant to Title 38, U.S.C., Chapter 55 and Title 12, U.S.C., Chapter 35), VA Form 27-4718a.

OMB Control Number: 2900-0017.

Type of Review: Extension of a currently approved collection.

Abstract: VA maintain supervision of the distribution and use of VA benefits paid to fiduciaries on behalf of VA claimants who are incompetent, a minor, or under legal disability. The forms are used to verify beneficiaries' deposit remaining at a financial institution against a fiduciary's accounting. The following forms will be used to ensure claimants' benefits payments are administered properly.

a. VA Forms 21-4706, 4706b and 4706c are used by estate to determine proper usage of benefits paid to fiduciaries. The 21-4706 and 21-4706b are both necessary to conform to requirement of various state courts.

b. VA Form 21-4718 is provided to VA fiduciaries to submit accountings to either State courts or the VA. It is not a reporting form per se, but a vehicle to assist the fiduciary in accurately maintaining records of monies received and spent.

c. VA Form 21-4718a—Fiduciaries are required to obtain certifications that the balances remaining on deposit in financial institutions as shown on accountings are correct. Certifying official at a financial institution completing the form must affix the institution's official seal or stamp. The data collected is used to appoint an appropriate fiduciary for a VA beneficiary and to prevent fiduciaries from supplying false certification, embezzling funds, and possibly prevent and/or identify fraud, waste and abuse of government funds paid to fiduciaries on behalf of VA beneficiaries.

An agency may not conduct or sponsor, and a person is not required to respond to a collection of information unless it displays a currently valid OMB control number. The Federal Register notice with a 60-day comment period soliciting comments on this collection of information was published on May 18, 2006 at page 28918.

Affected Public: Individuals or households.

Estimated Annual Burden: 29,566.

a. Annual-Final Report and Account, VA Form 21-4706—1,100.

b. Federal Fiduciary's Account, VA Form 21-4706b—6,300.

c. Court Appointed Fiduciary's Account, VA Form 21-4706c—2,000.

d. Account Book, VA Form 21-4718—20,000.

e. Certificate of Balance on Deposit and Authorization to Disclose Financial Records, Pursuant to Title 38, U.S.C., Chapter 55 and Title 12, U.S.C., Chapter 35) VA Form 27-4718a—165.

Estimated Average Burden Per Respondent:

a. Annual-Final Report and Account, VA Form 21-4706—30 minutes.

b. Federal Fiduciary's Accounts, VA Form 21-4706b—27 minutes.

c. Court Appointed Fiduciary's Account, VA Form 21-4706c—30 minutes.

d. Account Book, VA Form 21-4718—2½ hours.

e. Certificate of Balance on Deposit and Authorization to Disclose Financial Records, Pursuant to Title 38, U.S.C., Chapter 55 and Title 12, U.S.C., Chapter 35) VA Form 27-4718a—3 minutes.

Frequency of Response: Annually.

Estimated Number of Respondents: 31,512.

a. Annual-Final Report and Account, VA Form 21-4706—2,200.

b. Federal Fiduciary's Accounts, VA Form 21-4706b—14,000.

c. Court Appointed Fiduciary's Account, VA Form 21-4706c—4,000.

d. Account Book, VA Form 21-4718—8,000.

e. Certificate of Balance on Deposit and Authorization to Disclose Financial Records, Pursuant to Title 38, U.S.C., Chapter 55 and Title 12, U.S.C., Chapter 35), VA Form 27-4718a—3,312.

Dated: September 25, 2006.
By direction of the Secretary.
Denise McLamb,
Program Analyst, Initiative Coordination Service.

[FR Doc. E6-16513 Filed 10-5-06; 8:45 am]

BILLING CODE 8320-01-P